DEPARTMENT OF COMMERCE

Foreign-Trade Zones Board

[B-39-2015]

Foreign-Trade Zone (FTZ) 64—Jacksonville, Florida; Authorization of Production Activity; Saft America Inc. (Lithium-Ion Batteries); Jacksonville, Florida

On June 1, 2015, the Jacksonville Port Authority, grantee of FTZ 64, submitted a notification of proposed production activity to the FTZ Board on behalf of Saft America Inc., within Site 10, in Jacksonville, Florida.

The notification was processed in accordance with the regulations of the FTZ Board (15 CFR part 400), including notice in the Federal Register inviting public comment (80 FR 33479, June 12, 2015). The FTZ Board has determined that no further review of the activity is warranted at this time. The production activity described in the notification is authorized, subject to the FTZ Act and the Board's regulations, including Section 400.14.

Dated: September 28, 2015.
Pierre V. Duy,
Acting Executive Secretary.

[FR Doc. 2015-24961 Filed 9-30-15; 8:45 am]

BILLING CODE 3510-DS-P